INTERNATIONAL TRADE COMMISSION

[Investigation Nos. 701-TA-482-484 and 731-TA-1191-1194 (Final) (Remand)]

Circular Welded Carbon-Quality Steel Pipe From India, Oman, the United Arab Emirates, and Vietnam

AGENCY: United States International Trade Commission.

ACTION: Notice of remand proceedings.

SUMMARY: The U.S. International Trade Commission (“Commission”) hereby gives notice of the court-ordered remand of its final determinations in the countervailing duty investigations of circular welded carbon-quality steel pipe (“CWP”) from India, Oman, and the United Arab Emirates (“UAE”) and the antidumping duty investigations of CWP from India, Oman, the UAE, and Vietnam. For further information concerning the conduct of these remand proceedings and rules of general application, consult the Commission's Rules of Practice and Procedure, part 201, subparts A through E (19 CFR part 201), and part 207, subpart A (19 CFR part 207).

DATES: Effective Dates: December 8, 2014.

FOR FURTHER INFORMATION CONTACT: Doug Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of Investigation Nos. 701-TA-482-484 and 731-TA-1191-1194 (Final) may be viewed on the Commission's electronic docket (EDIS) at http://edis.usitc.gov.

SUPPLEMENTARY INFORMATION:

Background: In November 2012, the Commission determined by a vote of four to two that an industry in the United States was not materially injured or threatened with material injury by reason of imports of CWP from India, Oman, the UAE, and Vietnam that were sold in the United States at less than fair value and that were subsidized by the Governments of India, Oman, and the UAE. Petitioners and domestic producers contested the Commission's determinations before the U.S. Court of International Trade (“CIT”). The CIT remanded certain issues to the Commission and affirmed all other aspects of the Commission's determinations. JMC Steel Group v. United States, Slip. Op. 14-120 (Ct. Int'l Trade Oct. 15, 2014).

Participation in the proceeding: Only those persons who were interested parties that participated in the investigations (i.e., persons listed on the Commission Secretary's service list) and also parties to the appeal may participate in the remand proceedings. Such persons need not make any additional filings with the Commission to participate in the remand proceedings, unless they are adding new individuals to the list of persons entitled to receive business proprietary information (“BPI”) under administrative protective order. BPI referred to during the remand proceedings will be governed, as appropriate, by the administrative protective order issued in the investigations. The Secretary will maintain a service list containing the names and addresses of all persons or their representatives who are parties to the remand proceedings, and the Secretary will maintain a separate list of those authorized to receive BPI under the administrative protective order during the remand proceedings.

Written Submissions: The Commission is not reopening the record and will not accept the submission of new factual information for the record. The Commission will permit the parties to file comments concerning how the Commission could best comply with the Court's remand instructions.

The comments must be based solely on the information in the Commission's record. The Commission will reject submissions containing additional factual information or arguments pertaining to issues other than those on which the Court has remanded this matter. The deadline for filing comments is December 24, 2014. Comments shall be limited to no more than twenty (20) double-spaced and single-sided pages of textual material.

Parties are advised to consult with the Commission's Rules of Practice and Procedure, part 201, subparts A through E (19 CFR part 201), and part 207, subpart A (19 CFR part 207) for provisions of general applicability concerning written submissions to the Commission. All written submissions, including those that contain BPI, must conform to the Commission's rules. Please be aware that the Commission's rules with respect to electronic filing have been amended. The amendments took effect on November 7, 2011. See 76 FR 61937 (Oct. 6, 2011) and the newly revised Commission Handbook on E-Filing, available on the Commission's Web site at http://edis.usitc.gov.

Additional written submissions to the Commission, including requests pursuant to section 201.12 of the Commission's rules, shall not be accepted unless good cause is shown for accepting such submissions or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

By order of the Commission.
Issued: December 3, 2014.
Lisa R. Barton,
Secretary to the Commission.

[FR Doc. 2014-28679 Filed 12-5-14; 8:45 am]

BILLING CODE 7020-02-P